DEPARTMENT OF THE TREASURY

Internal Revenue Service

26 CFR Part 1

[TD 9713]

RIN 1545-BL46; RIN 1545-BM60

Reporting for Premium; Basis Reporting by Securities Brokers and Basis Determination for Debt Instruments and Options; Correction

AGENCY: Internal Revenue Service (IRS), Treasury.

ACTION: Temporary regulations; correcting amendments.

SUMMARY: This document contains amendments to temporary regulations relating to information reporting by brokers for transfers of debt instruments. The amendments change the applicability date of the temporary regulations for reporting certain information on a transfer statement from June 30, 2015, to January 1, 2016. The amendments to the temporary regulations will provide guidance to brokers and their customers.

DATES: Effective Date: These amendments are effective on June 5, 2015.

Applicability Date: For the date of applicability, see § 1.6045A-1T(f), as corrected.

FOR FURTHER INFORMATION CONTACT: Pamela Lew at (202) 317-7053 (not a toll-free number).

SUPPLEMENTARY INFORMATION:

Background

The temporary regulations that are the subject of these amendments are under section 6045A of the Internal Revenue Code. The temporary regulations (TD 9713) were published in the Federal Register on Friday, March 13, 2015 (80 FR 13233).

Need for Amendments

Under § 1.6045A-1, a broker is required to provide certain information relating to a transfer of a debt instrument that is a covered security on a transfer statement. Section 1.6045A-1T(f) requires a broker to provide certain additional information on the transfer statement. Section 1.6045A-1T(f) applies to a transfer that occurs on or after June 30, 2015. After the publication of the temporary regulations, the Treasury Department and the IRS received comments requesting that the applicability date of the regulations be delayed until January 1, 2016. In response to these comments, this document amends the applicability date to make the regulations apply to transfers that occur on or after January 1, 2016.

List of Subjects in 26 CFR Part 1

Income taxes, Reporting and recordkeeping requirements.

Amendments to the Regulations

Accordingly, 26 CFR part 1 is corrected by making the following correcting amendments:

PART 1—INCOME TAXES

Paragraph 1. The authority citation for part 1 continues to read in part as follows:

Authority: 26 U.S.C. 7805 * * *

Par. 2. Section 1.6045A-1T is amended by:

1. Revising the second sentence in paragraph (f).

2. Adding a sentence at the end of paragraph (f).

The revision and addition read as follows:

§ 1.6045A-1T Statements of information required in connection with transfers of securities (temporary).

* * * * *

(f) * * * This paragraph (f) applies to a transfer that occurs on or after January 1, 2016. A broker, however, may rely on this paragraph (f) for a transfer of a covered security that occurs on or after June 30, 2015, and before January 1, 2016.

* * * * *

Martin V. Franks,
Branch Chief, Publications & Regulations Branch, Legal Processing Division, Associate Chief Counsel (Procedure & Administration).

[FR Doc. 2015-13796 Filed 6-4-15; 8:45 am]

BILLING CODE 4830-01-P